DEPARTMENT OF THE INTERIOR

Bureau of Land Management

[LLNV912000 L16400000.PH0000 LXSS006F0000 261A; 11-08807; MO# 4500020151; TAS: 14X1109]

Notice of Public Meetings: Northeastern Great Basin Resource Advisory Council, Nevada

AGENCY: Bureau of Land Management, Interior.

ACTION: Notice of public meetings.

SUMMARY: In accordance with the Federal Land Policy and Management Act (FLPMA) and the Federal Advisory Committee Act of 1972 (FACA), the U.S. Department of the Interior, Bureau of Land Management (BLM) the Northeastern Great Basin Resource Advisory Council (RAC) will meet in various locations in Nevada. The meetings are open to the public.

DATES: March 23, 2011, at the BLM Ely District Office, 702 N. Industrial Way, Ely, Nevada; June 15 and 16, at the BLM Elko District Office, 3900 E. Idaho St., Elko, Nevada; August 25 and 26 at the Eureka Opera House, 31 S. Main Street, Eureka, Nevada. The meetings will include a general public comment period that will be listed in the final meeting agendas that will be available two weeks prior to the meeting.

FOR FURTHER INFORMATION CONTACT: Schirete Zick, (775) 635-4067, E-mail: szick@blm.gov.

SUPPLEMENTARY INFORMATION: The 15-member Council advises the Secretary of the Interior, through the BLM, on a variety of planning and management issues associated with public land management in Nevada. Topics for discussion will include, but are not limited to: District Manager's reports on current program of work, Southern Nevada Public Land Management Act Round 12 review of proposals, the National Landscape Conservation System, wild horse and burro, wild lands designation, minerals/energy, recreation, the Seven Mile project, landscape scale restoration, riparian grazing management, and other topics that may be raised by RAC members. Two field trips will be held: Spruce Mountain grazing allotment on June 15 and the Seven Mile project on August 25.

The final agenda with any additions/corrections to agenda topics, location, and meeting times will be posted on the BLM Web site at: http://www.blm.gov/nv/st/en/res/resource_advisory.html, and will be sent to the media at least 14 days before the meeting. Individuals who need special assistance such as sign language interpretation or other reasonable accommodations, or who wish to receive a copy of each agenda, should contact Schirete Zick at 775-635-4067 no later than one week before the start of each meeting.

Dated: February 17, 2011.
Doug Furtado,
Battle Mountain District Manager (RAC Designated Federal Official).

[FR Doc. 2011-4598 Filed 3-1-11; 8:45 am]

BILLING CODE 4310-HC-P